DEPARTMENT OF HOMELAND SECURITY

Federal Emergency Management Agency

44 CFR Part 206

[Docket ID FEMA-2014-0005]

RIN 1660-AA83

Factors Considered When Evaluating a Governor's Request for Individual Assistance for a Major Disaster; Correction

AGENCY: Federal Emergency Management Agency, DHS.

ACTION: Final rule; correction.

SUMMARY: The Federal Emergency Management Agency (FEMA) is correcting a final rule that published in the Federal Register on March 21, 2019. The rule revises the Individual Assistance factors FEMA uses to measure the severity, magnitude, and impact of a disaster. This document corrects two typographical errors in the preamble to the final rule and corrects the authority citation.

DATES: Effective June 1, 2019.

FOR FURTHER INFORMATION CONTACT: Mark Millican, FEMA, Individual Assistance Division, 500 C Street SW, Washington, DC 20472-3100, (phone) 202-212-3221 or (email) FEMA-IA-Regulations@fema.dhs.gov.

SUPPLEMENTARY INFORMATION: In FR Doc. 2019-05388 appearing on page 10632 in the Federal Register of Thursday, March 21, 2019, the following corrections are made:

1. On page 10647, in the third column, in the first full paragraph, “highlight” is corrected to read “highly”. that shows that TTR and population are highly correlated.”

2. On page 10653, in the first column, in footnote 61, in the first sentence, “Table 6” is corrected to read “Table 5”.

PART 206—[CORRECTED]

3. On page 10663, in the second column, in amendatory instruction 1, the authority citation for part 206 is corrected to read as follows:

Authority: Robert T. Stafford Disaster Relief and Emergency Assistance Act, 42 U.S.C. 5121 through 5207; Homeland Security Act of 2002, 6 U.S.C. 101 et seq.; Department of Homeland Security Delegation 9001.1.

Peter Gaynor,
Acting Administrator, Federal Emergency Management Agency.

[FR Doc. 2019-11656 Filed 5-31-19; 4:15 pm]

BILLING CODE 9111-23-P